DEPARTMENT OF COMMERCE

National Oceanic and Atmospheric Administration

Agency Information Collection Activities; Submission to the Office of Management and Budget (OMB) for Review and Approval; Comment Request; Economic Surveys of American Samoa, Guam, and the Commonwealth of the Northern Mariana Islands (CNMI) Small Boat-Based Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on March 16, 2020 during a 60-day comment period. This notice allows for an additional 30 days for public comments.

Agency: National Oceanic and Atmospheric Administration (NOAA).

Title: Economic Surveys of American Samoa, Guam, and the Commonwealth of the Northern Mariana Islands (CNMI) Small Boat-based Fisheries.

OMB Control Number: 0648-0635.

Form Number(s): None.

Type of Request: Regular submission [extension of a current information collection].

Number of Respondents: 480.

Average Hours per Response: 10 minutes per trip survey.

Total Annual Burden Hours: 80 hours.

Needs and Uses: The National Marine Fisheries Service (NMFS) collects information about fishing trip expenses in the American Samoa, Guam, and the Commonwealth of the Northern Mariana Islands (CNMI) small-boat-based reef fish, bottomfish, and pelagics fisheries with which to conduct analyses on economic performance of fisheries that will improve fishery management in those fisheries; satisfy NMFS' legal mandates under Executive Order 12866, the Magnuson-Steven Fishery Conservation and Management Act (U.S.C. 1801 et seq.), the Regulatory Flexibility Act, the Endangered Species Act, and the National Environmental Policy Act; and quantify achievement of the performances measures in the NMFS Strategic Operating Plans. An example of these performance measures is the fishing cost trend as one of the economic performance indicators reported in Annual Stock Assessment and Fishery Evaluation Reports of each Fishery Ecosystem Plan (http://www.wpcouncil.org/annual-reports/). In addition, the economic data collected will allow quantitative assessment of the fisheries sector's social and economic contribution, linkages and impacts of the fisheries sector to the overall economy through Input-output (I-O) models analyses. Results from I-O analyses will not only provide indicators of social-economic benefits of the marine ecosystem, a performance measure in the NMFS Strategic Operating Plans, but also be used to assess how fishermen and economy will be impacted by and respond to regulations likely to be considered by fishery managers. These data are collected in conjunction with catch and effort data already being collected in this fishery as part of its creel survey program. The creel survey program implemented by local fishery management agents is one of the major data collection systems to monitor fisheries resources in these three geographic areas. Interviews are conducted with returning fishermen at the most active launching ramps/docks during selected time periods on the islands. The economic surveys on trip expenditure are incorporated into the creel survey for the three areas, respectively.

Affected Public: Business or other for-profit organizations.

Frequency: On occasion.

Respondent's Obligation: Voluntary.

Legal Authority: Magnuson-Stevens Fishery Conservation and Management Act.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0635.

Sheleen Dumas,
Department PRA Clearance Officer, Office of the Chief Information Officer, Commerce Department.

[FR Doc. 2020-18503 Filed 8-21-20; 8:45 am]

BILLING CODE 3510-22-P